DEPARTMENT OF COMMERCE

National Oceanic and Atmospheric Administration

RIN 0648-XG968

Western Pacific Fishery Management Council; Public Meetings

AGENCY: National Marine Fisheries Service (NMFS), National Oceanic and Atmospheric Administration (NOAA), Commerce.

ACTION: Notice of public meetings.

SUMMARY: The Western Pacific Fishery Management Council (Council) will hold meetings of its Protected Species Advisory Committee (PSAC), Archipelagic Fishery Ecosystem Plan (FEP) Team (APT), Pelagics FEP Plan Team (PPT), and the Fishery Data Collection and Research Committee—Data Technical Sub-Committee (FDCRC-DTC) to discuss fishery issues and develop recommendations for future management of archipelagic, pelagic and protected species.

DATES: The PSAC meeting will be held between 9 a.m. and 5 p.m. on May 1 and May 2, 2019. The APT meeting will be held between 8:30 a.m. and 5 p.m. on May 6 and May 7, 2019. The FDCRC-DTC meeting will be held between 8:30 a.m. and 5 p.m. on May 8, 2019. The PPT meeting will be held between 8:30 a.m. and 5 p.m. on May 9 and May 10, 2019. For specific times and agendas, see SUPPLEMENTARY INFORMATION.

ADDRESSES: The meetings will be held at the Western Pacific Regional Fishery Management Council Conference Room, 1164 Bishop St., Suite 1400, Honolulu, HI 96813; telephone: (808) 522-8220; fax: (808) 522-8226; online at wpcouncil.org.

FOR FURTHER INFORMATION CONTACT: Kitty M. Simonds, Executive Director, Western Pacific Regional Fishery Management Council, telephone: (808) 522-8220; fax: (808) 522-8226.

SUPPLEMENTARY INFORMATION: Public comment periods will be provided throughout the agendas. The order in which agenda items are addressed may change. The meetings will run as late as necessary to complete scheduled business.

Agenda for the PSAC Meeting

Wednesday, May 1, 2019, 9 a.m. to 5 p.m.

1. Welcome and Introductions

2. Approval of Agenda

3. Status of the Fifth and Sixth PSAC Meeting Recommendations

4. Endangered Species Act (ESA) and Marine Mammal Protection Act (MMPA) Updates

5. Pelagic Longline Fisheries Issues

A. Review of the Draft 2018 FEP Annual Stock Assessment and Fishery Evaluation (SAFE) Report

i. Summary of Relevant Fishery Data: 2018 Hawaii and American Samoa Logbook Reports

ii. 2018 Protected Species Section

iii. Standardized Metric for Protected Species Interactions

iv. Discussion and Synthesis

B. Council Fishery Actions on Pelagic Longline Fisheries

i. Framework for Managing Sea Turtle Interactions in the Hawaii Shallow-Set Longline Fishery

ii. Seabird Bycatch Mitigation Measures in the Hawaii Longline Fishery

a. 2018 Albatross Workshop Report

b. Strategies for Improving Seabird Mitigation Measures

iii. Other Pelagic Actions

C. Outcomes for the Olive Ridley Turtle Project and Next Steps for the Ecosystem-Based Fishery Management Turtle Project

D. Discussion on Emerging Issues, Data Gaps, and Research Needs

6. Pelagic Non-Longline Fisheries Issues

A. Review of the Draft 2018 FEP Annual SAFE Report for Pelagic Non-Longline Fisheries

i. Summary of Relevant Fishery Data

ii. Protected Species

B. Discussion on Emerging Issues, Data Gaps, and Research Needs

7. Public Comment

Thursday, May 2, 2019, 9 a.m. to 5 p.m.

8. Insular Fisheries Issues

A. Review of the Draft 2018 FEP Annual SAFE Report for Insular Fisheries

i. Summary of Relevant Fishery Data

ii. Protected Species

iii. Discussion and Synthesis

B. Council Fishery Actions on Insular Fisheries

C. French Frigate Shoals Green Turtle Research Plans

D. Discussion on Emerging Issues, Data Gaps, and Research Needs

9. Council's Research Priorities

A. Five-year Research Priorities

B. Cooperative Research Priorities

C. Discussion

10. Public Comment

11. Committee Discussion and Recommendations

12. Other Business and Next Meeting

Agenda for Archipelagic FEP Team Meeting

Monday, May 6, 2019, 8:30 a.m. to 5 p.m.

1. Welcome and Introductions

2. Approval of Draft Agenda, 2018 Report, and Assignment of Rapporteurs

3. Report on Previous Plan Team recommendations and Council Actions

4. 2018 Archipelagic Annual SAFE Report

A. Fishery Performance

1. Archipelagic Fisheries Modules

a. American Samoa

1. Bottomfish Fishery

2. Ecosystem Component Fisheries

b. Guam

1. Bottomfish Fishery

2. Ecosystem Component Fisheries

c. Commonwealth of the Northern Mariana Islands

1. Bottomfish Fishery

2. Ecosystem Component Fisheries

d. Hawaii

1. Bottomfish Fishery

2. Crustacean Fishery

3. Precious Coral Fishery

4. Ecosystem Component Fisheries

5. Non-Commercial Fisheries

2. Discussions

3. Public Comment

B. Ecosystem Considerations

1. Protected Species Section

2. Climate, Ecosystems, and Biological Section

a. Environmental and Climate Variables

b. Life History and Length-Derived Variables

c. Biomass estimates for Coral Reef Ecosystem Components

3. Habitat Section

4. Socioeconomics Section

5. Marine Planning Section

6. Discussions

7. Public Comment

C. Administrative Reports

1. Number of Federal Permits

2. Regulatory Actions in 2018

3. Discussions

4. Public Comment

D. Data Integration Section

1. Draft Data Integration Chapter

2. The Impact of Climate Change and Variability on Octopus Gleaning in American Samoa

3. Public Comment

Tuesday, May 7, 2019, 8:30 a.m. to 5 p.m.

5. Ecosystem Components and Changes to the Annual SAFE Report

6. Finalizing Species Table for the Annual SAFE Report

7. Calculations of Effort and Participation in the Annual SAFE Report

8. Machine Learning Software to Support Fishery Data Collection

9. Habitat Indicators for Coral Reef Ecosystem Components

10. Western Pacific Insular Fisheries Monitoring Workshop

11. Action Agenda Items

A. Evaluation of 2018 Catch to Council Recommended ACLs

B. Precious Coral Essential Fish Habitat (EFH) Amendment

C. Main Hawaiian Islands (MHI) Kona Crab Fishery

1. Stock assessment for the MHI Kona Crab

2. P* Working Group Report on the MHI Kona Crab Fishery

3. M* Working Group Report on the MHI Kona Crab Fishery

D. Discussions

E. Public Comment

12. Monitoring and Updating Priorities

A. Council's Five-year Research Priorities

B. Cooperative Research Priorities

13. General Discussions

14. Fishery Ecosystem Plan Team Recommendations

15. Other Business

Agenda for FDCRC-DTC Meeting

Wednesday, May 8, 2018, 8:30 a.m. to 5 p.m.

1. Welcome and Introductions

2. Approval of Draft Agenda, 2018 Report & Assignment of Rapporteurs

3. Report on Previous FDCRC-DTC Recommendations and Council Actions

4. Status of the Fishery Dependent Data Collection Improvement Efforts

A. American Samoa

B. Guam

C. CNMI

D. Hawaii

E. Territory Science Initiative Projects

F. Western Pacific Fishery Information Network Database Transition and Online Interface

G. Discussions

H. Public Comment

5. Status of the MRIP Regional Implementation Plan

6. Application of electronic reporting for the bottomfish fishery

7. Machine Learning Software to support fishery data collection

8. Report on the Hawaii Bio-Sampling Program

9. Western Pacific Insular Fisheries Monitoring Workshop

10. Work Session in collating information needed for the Workshop

11. General Discussions

12. FDCRC-DTC Recommendations

13. Other Business

Agenda for the Pelagics FEP Team Meeting

Thursday, May 9, 2019, 8.30 a.m. to 5 p.m.

1. Introductions

2. Review 2018 Annual SAFE Report Modules

A. Fishery Data Modules

i. American Samoa

ii. CNMI

iii. Guam

iv. Hawaii

v. International

vi. Recreational Fisheries

B. Ecosystem Considerations

i. Environmental & Climate Variables Section

ii. Habitat Section

iii. Marine Planning Section

iv. Human Dimensions Section

v. Protected Species Section

C. Data Integration Section

D. Web-interface of the Annual SAFE Report

E. 2018 Annual Report Region-Wide Improvements

3. Public Comment

Friday, May 10, 2019, 8:30 a.m. to 5 p.m.

4. Pelagics FEP Council Actions for 2018

A. Electronic Reporting in Hawaii Longline Fishery

B. Hawaii Shallow-Set Longline Modification for FEP

C. Amendment 8 Striped Marlin Updates

5. Developing Draft Minimum Standards for Tori Lines in the Hawaii Longline Fishery

6. Ecosystem-based Fishery Management Turtle Project

7. Hawaii Division of Aquatic Resources (DAR) Fisher Reporting System (FRS) Database for Pelagic Indicators

8. Updates to Ancillary Pelagic Management Unit Specie (PMUS) Indicators Project

9. Other Business

10. Public Comment

11. Pelagic Plan Team Recommendations

Special Accommodations

These meetings are physically accessible to people with disabilities. Requests for sign language interpretation or other auxiliary aids should be directed to Kitty M. Simonds, telephone: (808) 522-8220; fax: (808) 522-8226, at least 5 days prior to the meeting date.

Authority: 16 U.S.C. 1801 et seq.

Dated: April 10, 2019.
Rey Israel Marquez,
Acting Deputy Director, Office of Sustainable Fisheries, National Marine Fisheries Service.

[FR Doc. 2019-07450 Filed 4-12-19; 8:45 am]

BILLING CODE 3510-22-P